DEPARTMENT OF THE INTERIOR

Bureau of Land Management

[NV-033-03-1232-EA-NV04; NV05]

Temporary Closure of Public Lands—Recreation Special Events: Nevada, Carson City Field Office

AGENCY: Bureau of Land Management, Interior.

ACTION: Temporary closure of affected public lands in Lyon, Storey, Churchill, Carson, Douglas, Mineral, Washoe, Nye, Esmeralda and Lincoln Counties.

SUMMARY: The Bureau of Land Management, Carson City Field Office (BLM), announces the temporary closure of selected public lands under its administration in Lyon, Storey, Churchill, Carson, Douglas, Mineral, Washoe and Nye Counties. By agreement with Ely Field Office and Tonopah Field Station, those lands affected by the Vegas to Reno OHV Race in Nye, Lincoln and Esmeralda Counties are included in this closure. This action is taken to provide for public and participant safety and to protect adjacent natural and cultural resources during the conduct of permitted special recreation events.

SUMMARY: The Manager, Carson City Field Office, announces the temporary closure of selected public lands under BLM administration. This action is taken to provide for public and participant safety and to protect adjacent natural and cultural resources during the conduct of permitted special recreation events.

EFFECTIVE DATES: March through November 2003. Events may be canceled or rescheduled at short notice.

FOR FURTHER INFORMATION CONTACT: Fran Hull, Outdoor Recreation Planner, Carson City Field Office, Bureau of Land Management, 5665 Morgan Mill Road, Carson City, Nevada 89701, Telephone: (775) 885-6161.

SUPPLEMENTARY INFORMATION: This notice applies to closures on and adjacent to permitted special events such as: Motorized Off Highway Vehicle, Mountain Bike, Horse Endurance competitive event sites and routes. Competitive events (races) are conducted along dirt roads, trails, washes, and areas approved for such use through the Special Recreation Permit application process. Events occur from March through November, 2003. Closure period is from 6 a.m. race day until race finish or until the event has cleared between affected Check Point locations; approximately 2 to 24 hour periods. The general public will be advised of each event and closure specifics via local newspapers and mailed public letters within seven (7) to thirty (30) days prior to the running of an event. Event maps and information will be posted at the Carson City Field Office.

Locations most commonly used for permitted events include, but are not limited to:

1. Lemmon Valley MX Area—Washoe Co., T21N R19E S8.

2. Hungry Valley Off Highway Vehicle Area—Washoe Co., T21-23N R20E.

3. Pine Nut Mountains—Carson, Douglas & Lyon Counties: T11-16N R20-24E.

4. Virginia City/Jumbo Areas—Washoe & Storey Counties: T16-17N R20-21E.

5. Yerington/Weeks Areas—Lyon Co.: T12-16N R23-27E.

6. Fallon Area (Including Sand Mtn.)—Churchill Co.: T14-18N R27-32E.

7. Hawthorne Area—Mineral County: T5-14N R31½-36E.

8. Vegas to Reno OHV Race Route: Nye, Esmeralda, Lincoln, Mineral, Churchill, and Lyon Counties: From Alamo to Dayton, Nevada: appx 500 miles.

Marking and effect of closure. BLM lands to be temporarily closed to public use include the width and length of those roads and trails identified as the race route by colorful flagging, chalk arrows in the dirt and directional arrows attached to wooden stakes. The authorized applicants or their representatives are required to post warning signs, control access to, and clearly mark the event routes during closure periods.

Public uses generally affected by a Temporary Closure include: road and trail uses, camping, shooting of any kind of weapon including paint ball, and public land exploration.

Spectator and support vehicles may be driven on open roads only. Spectators may observe the races from specified locations as directed by event and agency officials.

You may obtain a map and schedule of each closure area at the contact address.

Exceptions. Closure restrictions do not apply to race officials, medical/rescue, law enforcement, and BLM personnel monitoring the event.

Authority: 43 CFR 8364.1 and 43 CFR part 2930.

Penalty. Any person failing to comply with the closure orders may be subject to imprisonment for not more than 12 months, or a fine in accordance with the applicable provisions of 18 U.S.C. 3571, or both.

Dated: January 23, 2003.
John O. Singlaub,
Manager, Carson City Field Office.

[FR Doc. 03-5837 Filed 3-11-03; 8:45 am]

BILLING CODE 4310-HC-P